SOCIAL SECURITY ADMINISTRATION

[Docket No. SSA 2012-0010]

Privacy Act of 1974, as Amended; Computer Matching Program (SSA/Office of Child Support Enforcement (OCSE))—Match Number 1074

AGENCY: Social Security Administration (SSA).

ACTION: Notice of a renewal of an existing computer matching program.

SUMMARY: In accordance with the provisions of the Privacy Act, as amended, this notice announces a renewal of an existing computer matching program that we are currently conducting with OCSE.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869, or writing to the Executive Director, Office of Privacy and Disclosure, Office of the General Counsel, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Public Law (Pub.L.) 100-503), amended the Privacy Act (5 U.S.C. 552a) by describing the conditions under which computer matching involving the Federal government could be performed, and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Daniel F. Callahan,
Acting Executive Director, Office of Privacy and Disclosure, Office of the General Counsel.

Notice of Computer Matching Program, SSA With the Office of Child Support Enforcement (OCSE)

A. Participating Agencies

SSA and OCSE

B. Purpose of the Matching Program

The purpose of this matching program is to assist us in (1) establishing or verifying eligibility and payment amounts under the Supplemental Security Income (SSI) program; (2) establishing and verifying eligibility or continuing entitlement under the Disability Insurance (DI) program; and (3) administering the Ticket to Work and Self Sufficiency (Ticket) Programs.

On a quarterly basis, we will match records maintained in our DI, Special Veterans Benefits and SSI Record against the quarterly wage (QW) and unemployment insurance (UI) records contained in OCSE's National Directory of New Hires (NDNH). We will also use an online query to read QW, UI, and new hire data contained in OCSE's NDNH.

C. Authority for Conducting the Matching Program

The legal authority for disclosures under this Agreement are the Social Security Act (Act) and the Privacy Act of 1974, as amended. Section 453(j)(4) of the Act provides that OCSE shall provide the Commissioner of Social Security with all information in the NDNH. 42 U.S.C. 653(j)(4). We have the authority to use this data to determine entitlement and eligibility for the programs we administer pursuant to sections 453(j)(4), 1631(e)(1)(B) and (f), and 1148 of the Act. 42 U.S.C. 653(j)(4), 1320b-19(d)(1), and 1383(e)(1)(B) and (f). Disclosures under this Agreement are made in accordance with 5 U.S.C. 552a(b)(3), and in compliance with the matching procedures in 5 U.S.C. 552a(o), (p), and (r).

The Commissioner of Social Security is required to verify a recipient's or applicant's eligibility for SSI using independent or collateral sources. We cannot determine an applicant's eligibility for SSI benefits solely on the applicant's declaration concerning eligibility factors or other relevant facts. We also obtain information to ensure that we provide SSI benefits only to eligible individuals (or eligible spouses) and that we are paying the correct amounts of such benefits. Section 1631(e)(1)(B) of the Act.

Subsection 1631(f) of the Act provides that “The head of any federal agency shall provide such information as the Commissioner of Social Security needs for purposes of determining eligibility for or amount of benefits, or verifying information with respect thereto.”

To comply with section 1148 of the Act, we must verify earnings of beneficiaries/recipients to ensure accurate payments to employer network providers under the Ticket-to-Work program.

D. Categories of Records and Persons Covered by the Matching Program

Our Systems of Records (SOR) covered by this program are the SSI Record and Special Veterans Benefits (SSR), SSA/OEEAS, 60-0103 notice last published on January 11, 2006 (71 Federal Register (FR) 1830); and the Completed Determination Record-Continuing Disability Determination file (CDR-CDD), SSA/OD 60-0050 notice last published January 11, 2006 (72 FR 1813).

OCSE will match our information in the SSR and CDR-CDD against the NDNH. The NDNH contains new hire, QW, and UI information furnished by state and federal agencies and is maintained by OCSE in its SOR “OCSE National Directory of New Hires” (NDNH), No. 09-80-0381, published in the FR on January 5, 2011, at 76 FR 560. Routine use (9) of the system of records authorizes disclosure of NDNH information to us, 76 FR 560, 562 (January 5, 2011).

Until January 31, 2013, through the Master File Query Menu (MFQM), we will use online queries to read records in the NDNH database. To limit disclosure and to prohibit browsing, our access is restricted by anti-browsing technology to only those Social Security numbers (SSN) that have a direct business relationship with SSI, DI, or Ticket programs (i.e., the record must have a valid SSI, DI, or Ticket payment or application issue). If no business relationship exists with us, OCSE denies access to NDNH and the user is unable to proceed. If a business relationship exists with us, we can access the NDNH to display an SSN-specific new hire, QW, or UI report in the NDNH. The MFQM extracts information from our SSR (for SSI recipients) or CDR-CDD (for ticket holders and disability beneficiaries) to facilitate query access. After January 31, 2013, we will invoke the OCSE web service to perform online lookups.

E. Inclusive Dates of the Matching Program

The effective date of this matching program is no sooner than April 20, 2012, provided that the following notice periods have lapsed: 30 days after publication of this notice in the FR and 40 days after notice of the matching program is sent to Congress and OMB. The matching program will continue for 18 months from the effective date and, if both agencies meet certain conditions, it may extend for an additional 12 months thereafter.

[FR Doc. 2012-11047 Filed 5-7-12; 8:45 am]

BILLING CODE 4191-02-P